DEPARTMENT OF ENERGY

Federal Energy Regulatory Commission

[Project No. 405-113]

Exelon Generation Company, LLC; Notice of Availability of Environmental Assessment

In accordance with the National Environmental Policy Act of 1969 and the Federal Energy Regulatory Commission (Commission) regulations, 18 CFR part 380 (Order No. 486, 52 FR 47897), the Office of Energy Projects has reviewed an application submitted by Exelon Generating Company, LLC (licensee) to allow Peach Bottom Atomic Power Station (Peach Bottom), in York County, Pennsylvania, the use of Conowingo Hydroelectric (FERC No. 405) project lands and water for the increased withdrawal and discharge of water. The project is located on the Susquehanna River near Lancaster, Pennsylvania, in Hartford and Cecil counties, Maryland and in York and Lancaster counties, Pennsylvania.

An Environmental Assessment (EA) has been prepared as part of Commission staff's review of the proposal. In the application, the licensee proposes to increase the total water withdrawn for the operation of Peach Bottom from a currently authorized 2,236.264 million gallons per day (mgd) to 2,363.620 mgd and to increase the associated consumptive use of water withdrawn from 35.5 mgd to 49.0 mgd. This EA contains Commission staff's analysis of the probable environmental impacts of the proposed, increased withdraw and discharge of water and concludes that approval of the proposal would not constitute a major federal action significantly affecting the quality of the human environment.

The EA is available for electronic review and reproduction at the Commission's Public Reference Room, located at 888 First Street NE., Room 2A, Washington, DC 20426. The EA may also be viewed on the Commission's Web site at http://www.ferc.gov using the “eLibrary” link. Enter the docket number (P-405) in the docket number field to access the document. For assistance, contact FERC Online Support at FERCOnlineSupport@ferc.gov or toll-free at (866) 208-3372 or for TTY, (202) 502-8659.

Any comments on the EA should be filed by October 2, 2015 and should be addressed to the Secretary, Federal Energy Regulatory Commission, 888 First Street NE., Room 1-A, Washington, DC 20426. Please reference the project name and project number (P-405-113) on all comments. Comments may be filed electronically via the Internet in lieu of paper. The Commission strongly encourages electronic filings. See 18 CFR 385.2001(a)(1)(iii) and the instructions on the Commission's Web site under the “eFiling” link.

For further information, contact Alicia Burtner at (202) 502-8038 or by email at Alicia.burtner@ferc.gov.

Dated: September 2, 2015.
Kimberly D. Bose,
Secretary.

[FR Doc. 2015-22649 Filed 9-8-15; 8:45 am]

BILLING CODE 6717-01-P